NUCLEAR REGULATORY COMMISSION

[Docket No. 50-409; NRC-2014-0225]

Humboldt Bay Power Plant, Unit No. 3

AGENCY: U.S. Nuclear Regulatory Commission.

ACTION: Environmental assessment and finding of no significant impact; issuance.

SUMMARY: The U.S. Nuclear Regulatory Commission (NRC) is considering issuance of an exemption from certain emergency planning (EP) requirements for License No. DPR-7 held by Pacific Gas and Electric Company (PG&E, the licensee) for the possession of the Humboldt Bay Power Plant, Unit 3. PG&E is requesting the exemptions from specific emergency planning requirements by letter dated August 14, 2012.

ADDRESSES: Please refer to Docket ID NRC-2014-0225 when contacting the NRC about the availability of information regarding this document. You may obtain publicly-available information related to this document using any of the following methods:

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: John Hickman, Office of Nuclear Materials Safety and Safeguards, telephone: 301-415-3017, email: John.Hickman@nrc.gov; U.S. Nuclear Regulatory Commission, Washington, DC 20555-00001.

SUPPLEMENTARY INFORMATION:

I. Introduction

The U.S. Nuclear Regulatory Commission (NRC) staff is considering a request dated August 14, 2012 (ADAMS Accession No. ML12236A327), by PG&E requesting exemptions from specific emergency planning requirements of part 50 of Title 10 of the Code of Federal Regulations (10 CFR) for the Humboldt Bay Power Plant, Unit 3 and Independent Spent Fuel Storage Installation (ISFSI). The licensee's request was prompted by changes the NRC made to its EP regulations on November 3, 1980 by publishing a final rule (45 FR 55402) amending the EP requirements for production and utilization facilities. This Environmental Assessment (EA) for the proposed exemption has been developed in accordance with the requirements of 10 CFR 51.21.

II. Environmental Assessment

Identification of Proposed Action

The proposed action would exempt Humboldt Bay, a 10 CFR part 50 licensee, from certain 10 CFR part 50 emergency planning (EP) requirements because Humboldt Bay is permanently shut-down with the fuel now stored in dry concrete and steel casks at the Humboldt Bay ISFSI.

Need for Proposed Action

Humboldt Bay Power Plant (HBPP) Unit 3 was issued an operating license on August 28, 1962. On July 2, 1976, HBPP Unit 3 was shut down for annual refueling and to conduct seismic modifications. The unit was never restarted. In 1983, updated economic analyses indicated that restarting Unit 3 would probably not be cost-effective, and in June 1983, PG&E announced its intention to decommission the unit. On July 16, 1985, the NRC issued Amendment No. 19 to the HBPP Unit 3 Operating License to change the status to possess-but-not-operate (ADAMS Legacy Library Accession No. 8507260045). In December of 2008, the transfer of spent fuel from the fuel storage pool to the dry-cask ISFSI was completed, and the decontamination and dismantlement phase of HBPP Unit 3 decommissioning commenced (ADAMS Accession Number ML090440322). Active decommissioning is currently underway.

On November 23, 2011, the NRC issued a final rule in the Federal Register (FR) modifying or adding EP requirements in Section 50.47, Section 50.54, and Appendix E of 10 CFR Part 50 (76 FR 72560). The EP Final Rule was effective on December 23, 2011, with specific implementation dates for each of the rule changes, varying from the effective date of the Final Rule through December 31, 2015. The EP Final Rule codified certain voluntary protective measures contained in NRC Bulletin 2005-02, “Emergency Preparedness and Response Actions for Security-Based Events,” and generically applicable requirements similar to those previously imposed by NRC Order EA-02-026, “Order for Interim Safeguards and Security Compensatory Measures,” dated February 25, 2002. In addition, the EP Final Rule amended other licensee emergency plan requirements to: (1) Enhance the ability of licensees in preparing and in taking certain protective actions in the event of a radiological emergency; (2) address, in part, security issues identified after the terrorist events of September 11, 2001; (3) clarify regulations to effect consistent emergency plan implementation among licensees; and (4) modify certain EP requirements to be more effective and efficient. However, the EP Final Rule was only an enhancement to the NRC's regulations and was not necessary for adequate protection. On page 72563 of the Federal Register notice for the EP Final Rule, the Commission “determined that the existing regulatory structure ensures adequate protection of public health and safety and common defense and security.”

The licensee claims that the proposed action is needed because the final rule imposed requirements on HBPP that are not necessary to meet the underlying purpose of the regulations in view of the greatly reduced offsite radiological consequences associated with the current plant status as permanently shut down and with the spent nuclear fuel stored in an ISFSI. The EP program at this facility met the EP requirements in 10 CFR Part 50 that were in effect before December 23, 2011, subject to any license amendments or exemptions modifying the EP requirements for the licensee. Thus, compliance with the EP requirements in effect before the effective date of the EP Final Rule demonstrated reasonable assurance that adequate protective measures could be taken in the event of a radiological emergency.

Environmental Impacts of the Proposed Action

The NRC staff evaluated the environmental impacts of the proposed action and concludes that exempting the facility from the emergency planning requirements will not have any adverse environmental impacts. The NRC has determined that no credible events at the HBPP ISFSI would result in doses to the public beyond the owner-controlled area boundary that would exceed the U.S. Environmental Protection Agency Protective Action Guides at the site boundary. The staff also has concluded that the HBPP Emergency Plan, with the exemptions described in its safety evaluation (ADAMS Accession No. ML13016A210), provides for an acceptable level of emergency preparedness at the HBPP facility in its shutdown and defueled condition, and also provides reasonable assurance that adequate protective measures can and will be taken in the event of a radiological emergency at the HBPP facility. Additionally, the proposed action will involve no construction or major renovation of any buildings or structures, no ground disturbing activities, no alteration to land or neither air quality, nor any effect on historic and cultural resources. The proposed action will not significantly increase the probability or consequences of accidents, no changes are being made in the types of any effluents that may be released offsite, and there is no significant increase in occupational or public radiation exposure. Therefore, there are no significant radiological environmental impacts associated with the proposed action.

With regard to potential non-radiological impacts, there will be no construction or renovation of buildings or structures, or any ground-disturbing activities associated with the exemptions. In addition, the proposed action does not affect non-radiological plant effluents and has no other environmental impact. Finally, there will be no impact on historic sites. Therefore, there are no significant non-radiological environmental impacts associated with the proposed action.

Accordingly, the NRC staff concludes that there are no significant environmental impacts associated with the proposed action.

Environmental Impacts of the Alternatives to the Proposed Action

As an alternative to the proposed action, the NRC staff considered denial of the proposed action (i.e., the “no-action” alternative). Denial of the exemption request would result in no change in current environmental impacts because there will be no construction or major renovation of any buildings or structures, nor any ground disturbing activities associated. Thus the environmental impacts of the proposed action and no-action alternative are similar. Therefore, the no-action alternative is not further considered.

Conclusion

The NRC staff has concluded that the proposed action will not significantly impact the quality of the human environment, and that the proposed action is the preferred alternative.

Agencies and Persons Consulted

The NRC contacted the California Radiologic Health Branch in the State Department of Health Services concerning this request. There were no comments, concerns or objections from the State official.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA as part of its review of the proposed action. On the basis of this EA, the NRC finds that there are no significant environmental impacts from the proposed action, and that preparation of an environmental impact statement is not warranted. Accordingly, the NRC has determined that a Finding of No Significant Impact is appropriate. For further details with respect to the proposed action, see the licensee's letter dated August 14, 2012.

Dated at Rockville, Maryland, this 14th day of October, 2014.
For the Nuclear Regulatory Commission.
Andrew Persinko,
Deputy Director, Decommissioning and Uranium Recovery Licensing Directorate, Division of Waste Management and Environmental Protection, Office of Federal and State Materials and Environmental Management Programs.

[FR Doc. 2014-25345 Filed 10-23-14; 8:45 am]

BILLING CODE 7590-01-P